DEPARTMENT OF ENERGY

Federal Energy Regulatory Commission

Combined Notice of Filings

Take notice that the Commission has received the following Natural Gas Pipeline Rate and Refund Report filings:

Filings Instituting Proceedings

Docket Numbers: RP11-2619-000.

Applicants: Transcontinental Gas Pipe Line Company.

Description: Annual Cash-Out Report Period Ending July 31, 2012.

Filed Date: 9/28/12.

Accession Number: 20120928-5255.

Comments Due: 5 p.m. ET 10/10/12.

Docket Numbers: RP12-1105-000.

Applicants: Gulf Crossing Pipeline Company LLC.

Description: Vanguard Permian 597 & 598 to Tenaska 600 & 599 Cap Rel Neg Rate Agmts to be effective 10/1/2012.

Filed Date: 9/28/12.

Accession Number: 20120928-5036.

Comments Due: 5 p.m. ET 10/10/12.

Docket Numbers: RP12-1106-000.

Applicants: Gulf South Pipeline Company, LP.

Description: HK 37367 to Sequent 39757 Cap Rel Neg Rate Agmt filing to be effective 10/1/2012.

Filed Date: 9/28/12.

Accession Number: 20120928-5040.

Comments Due: 5 p.m. ET 10/10/12.

Docket Numbers: RP12-1107-000.

Applicants: Gulf South Pipeline Company, LP.

Description: QEP Amendments 36601-11 and 37657-22 to Neg Rate Agmts to be effective 10/1/2012.

Filed Date: 9/28/12.

Accession Number: 20120928-5041.

Comments Due: 5 p.m. ET 10/10/12.

Docket Numbers: RP12-1108-000.

Applicants: Gulf South Pipeline Company, LP.

Description: Cap Rel Neg Rate Agmt—Encana 37663 to Texla 40128 to be effective 10/1/2012.

Filed Date: 9/28/12.

Accession Number: 20120928-5042.

Comments Due: 5 p.m. ET 10/10/12.

Docket Numbers: RP12-1109-000.

Applicants: Gulf South Pipeline Company, LP.

Description: ONEOK 34951 to BG Energy 40123 cap rel neg rate agmt filing to be effective 10/1/2012.

Filed Date: 9/28/12.

Accession Number: 20120928-5043.

Comments Due: 5 p.m. ET 10/10/12.

Docket Numbers: RP12-1110-000.

Applicants: Northern Natural Gas Company.

Description: 20120928 Negotiated Rate to be effective 10/1/2012.

Filed Date: 9/28/12.

Accession Number: 20120928-5044.

Comments Due: 5 p.m. ET 10/10/12.

Docket Numbers: RP12-1111-000.

Applicants: Total Peaking Services, L.L.C.

Description: Total Peaking Services, L.L.C.—Order No. 587-V Compliance Filing to be effective 12/1/2012.

Filed Date: 9/28/12.

Accession Number: 20120928-5063.

Comments Due: 5 p.m. ET 10/10/12.

Docket Numbers: RP12-1112-000.

Applicants: Maritimes & Northeast Pipeline, L.L.C.

Description: MNUS FRQ 2012.

Filed Date: 9/28/12.

Accession Number: 20120928-5070.

Comments Due: 5 p.m. ET 10/10/12.

Docket Numbers: RP12-1113-000.

Applicants: Ryckman Creek Resources, LLC.

Description: NAESB Compliance Filing to be effective 12/1/2012.

Filed Date: 9/28/12.

Accession Number: 20120928-5071.

Comments Due: 5 p.m. ET 10/10/12.

Docket Numbers: RP12-1114-000.

Applicants: Kern River Gas Transmission Company.

Description: 2012 NAESB 2.0 to be effective 12/1/2012.

Filed Date: 9/28/12.

Accession Number: 20120928-5084.

Comments Due: 5 p.m. ET 10/10/12.

Docket Numbers: RP12-1115-000.

Applicants: Eastern Shore Natural Gas Company.

Description: NAESB Compliance Order No. 587-V to be effective 12/1/2012.

Filed Date: 9/28/12.

Accession Number: 20120928-5097.

Comments Due: 5 p.m. ET 10/10/12.

Docket Numbers: RP12-1116-000.

Applicants: Transwestern Pipeline Company, LLC.

Description: 2012 TW NAESB 2.0 Filing to be effective 12/1/2012.

Filed Date: 9/28/12.

Accession Number: 20120928-5109.

Comments Due: 5 p.m. ET 10/10/12.

Docket Numbers: RP12-1117-000.

Applicants: ETC Tiger Pipeline, LLC.

Description: ETC Tiger 2012 NAESB Version 2.0 Filing to be effective 12/1/2012.

Filed Date: 9/28/12.

Accession Number: 20120928-5113.

Comments Due: 5 p.m. ET 10/10/12.

Docket Numbers: RP12-1118-000.

Applicants: Fayetteville Express Pipeline LLC.

Description: FEP 2012 NAESB Version 2.0 Compliance Filing to be effective 12/1/2012.

Filed Date: 9/28/12.

Accession Number: 20120928-5118.

Comments Due: 5 p.m. ET 10/10/12.

Docket Numbers: RP12-1119-000.

Applicants: Gulf South Pipeline Company, LP.

Description: HK 37731 to Texla 40150 Cap Rel Neg Rate Agmt filing to be effective 10/1/2012.

Filed Date: 9/28/12.

Accession Number: 20120928-5133.

Comments Due: 5 p.m. ET 10/10/12.

Docket Numbers: RP12-1120-000.

Applicants: Gulf South Pipeline Company, LP.

Description: HK 37731 to Sequent 40151 Cap Rel Neg Rate Agmt filing to be effective 10/1/2012.

Filed Date: 9/28/12.

Accession Number: 20120928-5134.

Comments Due: 5 p.m. ET 10/10/12.

Docket Numbers: RP12-1121-000.

Applicants: Portland General Electric Company.

Description: Order 587-B Filing to be effective 12/1/2012.

Filed Date: 9/28/12.

Accession Number: 20120928-5147.

Comments Due: 5 p.m. ET 10/10/12.

Docket Numbers: RP12-1122-000.

Applicants: ANR Pipeline Company.

Description: Marshfield Reduction Project to be effective 11/1/2012.

Filed Date: 9/28/12.

Accession Number: 20120928-5157.

Comments Due: 5 p.m. ET 10/10/12.

Docket Numbers: RP12-1123-000.

Applicants: Viking Gas Transmission Company.

Description: Semi Annual FLRP—Fall 2012 to be effective 11/1/2012.

Filed Date: 9/28/12.

Accession Number: 20120928-5159.

Comments Due: 5 p.m. ET 10/10/12.

Docket Numbers: RP12-1124-000.

Applicants: Guardian Pipeline, L.L.C.

Description: Transporter's Use Gas Annual Adjustment 2012 to be effective 11/1/2012.

Filed Date: 9/28/12.

Accession Number: 20120928-5178.

Comments Due: 5 p.m. ET 10/10/12.

Docket Numbers: RP12-1125-000.

Applicants: Gulf States Transmission LLC.

Description: Gulf States Transmission 2012 NAESB V2.0 Filing to be effective 12/1/2012.

Filed Date: 9/28/12.

Accession Number: 20120928-5201.

Comments Due: 5 p.m. ET 10/10/12.

Docket Numbers: RP12-1126-000.

Applicants: Northwest Pipeline GP.

Description: Non-Conforming Filing—WPX (137679) & Idaho Power (139664) to be effective 11/1/2012.

Filed Date: 9/28/12.

Accession Number: 20120928-5211.

Comments Due: 5 p.m. ET 10/10/12.

Docket Numbers: RP12-1127-000.

Applicants: Transcontinental Gas Pipe Line Company.

Description: LNG Fuel Tracker Filing 2012 to be effective 11/1/2012.

Filed Date: 9/28/12.

Accession Number: 20120928-5218.

Comments Due: 5 p.m. ET 10/10/12.

Docket Numbers: RP12-1128-000.

Applicants: TWP Pipeline LLC.

Description: NAESB Compliance Filing to be effective 12/1/2012.

Filed Date: 9/28/12.

Accession Number: 20120928-5224.

Comments Due: 5 p.m. ET 10/10/12.

Docket Numbers: RP12-1129-000.

Applicants: Rager Mountain Storage Company LLC.

Description: NAESB Compliance Filing to be effective 12/1/2012.

Filed Date: 9/28/12.

Accession Number: 20120928-5233.

Comments Due: 5 p.m. ET 10/10/12.

Docket Numbers: RP12-1130-000.

Applicants: Equitrans, L.P.

Description: Negotiated Rate Service Agreement Filing—EQT Energy, LLC to be effective 10/1/2012.

Filed Date: 9/28/12.

Accession Number: 20120928-5234.

Comments Due: 5 p.m. ET 10/10/12.

Docket Numbers: RP12-1131-000.

Applicants: Rockies Express Pipeline LLC.

Description: Interim Fuel Filing 9-28-2012 to be effective 11/1/2012.

Filed Date: 9/28/12.

Accession Number: 20120928-5235.

Comments Due: 5 p.m. ET 10/10/12.

Docket Numbers: RP12-1132-000.

Applicants: El Paso Natural Gas Company, L.L.C.

Description: Tariff Merger Filing to be effective 10/29/2012.

Filed Date: 9/28/12.

Accession Number: 20120928-5252.

Comments Due: 5 p.m. ET 10/10/12.

Docket Numbers: RP12-1133-000.

Applicants: ANR Storage Company.

Description: Market-Based Rates to be effective 11/1/2012.

Filed Date: 9/28/12.

Accession Number: 20120928-5256.

Comments Due: 5 p.m. ET 10/10/12.

Docket Numbers: RP12-1134-000.

Applicants: Fayetteville Express Pipeline LLC.

Description: FEP 2012 HUB Service Filing to be effective 1/1/2013.

Filed Date: 9/28/12.

Accession Number: 20120928-5258.

Comments Due: 5 p.m. ET 10/10/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-1403-002

Applicants: Sabine Pipe Line LLC

Description: Sabine—Compliance with NAESB WGQ v2.0 to be effective 12/1/2012

Filed Date: 9/28/12

Accession Number: 20120928-5259

Comments Due: 5 p.m. ET 10/10/12

Docket Numbers: RP11-2399-001

Applicants: Chandeleur Pipe Line Company

Description: Chandeleur—Compliance with NAESB WGQ Version 2.0 to be effective 12/1/2012

Filed Date: 9/28/12

Accession Number: 20120928-5231

Comments Due: 5 p.m. ET 10/10/12

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 1, 2012.
Nathaniel J. Davis, Sr.,
Deputy Secretary.

[FR Doc. 2012-24599 Filed 10-4-12; 8:45 am]

BILLING CODE 6717-01-P